DEPARTMENT OF THE INTERIOR

Bureau of Land Management

[LLIDI02000.L71220000.EO0000. LVTFD0980300]

Notice of Availability of Record of Decision for the Proposed Blackfoot Bridge Mine, Caribou County, ID

AGENCY: Bureau of Land Management, Interior.

ACTION: Notice of Availability.

SUMMARY: The Bureau of Land Management (BLM) is announcing the availability of the Record of Decision (ROD) for the proposed Blackfoot Bridge Mine.

DATES: The ROD is now available. Implementation of this decision may begin at the close of an appeal-filing period which begins June 17, 2011 and ends 30 days after June 17, 2011.

ADDRESSES: Copies of the Blackfoot Bridge Mine ROD are available in the BLM Pocatello Field Office at the following address: 4350 Cliffs Drive, Pocatello, Idaho 83204. In addition, an electronic copy of the ROD is available at the following Web site: http://www.blm.gov/id/st/en/prog/0.html.

FOR FURTHER INFORMATION CONTACT: Kyle Free, Bureau of Land Management, Pocatello Field Office, 4350 Cliffs Drive, Pocatello, Idaho 83204, phone (208) 478-6368, fax (208) 478-6376. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The BLM has made the decision to approve the Blackfoot Bridge Mine and Reclamation Plan as defined by Alternative 1A, subject to the environmental protection measures of the Proposed Action and Alternative 1A, mitigation, monitoring, and conditions developed in the Final Environmental Impact Statement (EIS), and subject to additional conditions described in the ROD. The BLM has also decided to recommend the proposed lease modification to lease I-05613. This decision is consistent with the Prefered Alternative as described and analyzed in the Final EIS.

The BLM approves of Alternative 1A because this alternative employs reasonable measures to satisfy regulatory requirements and adequately reduces potential environmental impacts on local and regional water quality. A Geosynthetic Clay Liner Laminate cover system is the most notable of these mitigation measures, but other measures such as an Overburden Seepage Management System, will also reduce potential impacts. The effectiveness of these measures is enhanced by the development of specific management plans for the implementation of additional environmental control measures. As detailed in the Final EIS, these measures include, but are not limited to the Water Management Plan, the Environmental Monitoring Plan, and the Adaptive Management Plan.

As conditions of approval for the Blackfoot Bridge Mine, P4 or the Federal lease holder, its employees, contractors, agents, assignees, and operators must comply with the mitigation and monitoring measures as well as other requirements defined in the Final EIS, the ROD, and conditions defined by cooperating agencies in their decisions. Conditions of Approval defined in the ROD cover performance bonding, monitoring, construction quality assurance, oversight funding, water rights, and other requirements.

Implementation of the decision may begin at the close of an appeal-filing period which begins with this notice and ends in 30 days. Information and procedures for taking appeals to the Interior Board of Land Appeals are provided in Appendix IV of the ROD.

Authority: Mineral Leasing Act of 1920, as amended (30 U.S.C. 181 et seq.); the Federal Land Policy and Management Act of 1976, as amended (43 U.S.C. 1701 et seq.); and 40 CFR part 1500.

Joe Kraayenbrink,
BLM Idaho Falls District Manager.

[FR Doc. 2011-15241 Filed 6-16-11; 8:45 am]

BILLING CODE 4310-GG-P